NUCLEAR REGULATORY COMMISSION

[Docket No. 50-293; NRC-2016-0035]

Entergy Nuclear Operations, Inc., Pilgrim Nuclear Power Station

AGENCY: Nuclear Regulatory Commission.

ACTION: Petition request; receipt.

SUMMARY: The U.S. Nuclear Regulatory Commission (NRC) is giving notice that by petition dated June 24, 2015, as supplemented, David Lochbaum of the Union of Concerned Scientists and others (the petitioners) requested that the NRC take action with regard to the Pilgrim Nuclear Power Station (Pilgrim). The petitioner's requests are included in the SUPPLEMENTARY INFORMATION section of this document.

ADDRESSES: Please refer to Docket ID NRC-2016-0035 when contacting the NRC about the availability of information regarding this document. You may obtain publicly-available information related to this document using any of the following methods:

• Federal Rulemaking Web site: Go to http://www.regulations.gov and search for Docket ID NRC-2016-0035. Address questions about NRC dockets to Carol Gallagher; telephone: 301-415-3463; email: Carol.Gallagher@nrc.gov.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On June 24, 2015, the petitioners requested that the NRC take enforcement action with regard to Pilgrim concerning the current licensing basis on flooding (ADAMS Accession No. ML16029A407). The petitioners requested that the NRC take enforcement action to require that the current licensing basis for Pilgrim explicitly include flooding caused by local intense precipitation or probable maximum precipitation events.

As the basis for this request, the petitioners referred to Pilgrim's flood reevaluation report provided by Entergy Nuclear Operations, Inc. (Entergy, the licensee) to the NRC in a letter dated March 12, 2015 (ADAMS Accession No. ML15075A082). The petitioners state that Pilgrim's reevaluations indicate that the site could experience flood levels from heavy rainfall events nearly ten feet higher than anticipated when the plant was originally licensed. Although existing doors protect important equipment from being submerged and damaged, the petitioners assert that neither regulatory requirements nor enforceable commitments exist that ensure the continued reliability of flood protection features that are currently installed at the site to protect important equipment from being submerged and damaged. The petition states in relevant part “the petitioners seek to rectify safety shortcoming by revising the current licensing basis to include flooding caused by heavy rainfall events.”

The request is being treated pursuant to Section 2.206 of title 10 of the Code of Federal Regulations (10 CFR) of the NRC's regulations. A conference call was held between the petitioner and the Petition Review Board (PRB) on August 5, 2015, to discuss the petition; the transcript of that teleconference is an additional supplement to the petition (ADAMS Accession No. ML15230A017). The PRB has reviewed the petition, and its supplement, and referred the request to the Director of the Office of Nuclear Reactor Regulation. The Director partially granted for review the petitioners' concerns that the current licensing basis be revised to include specific beyond-design-basis flood events at Pilgrim. The parts of the petitioners' concerns not granted for review are the impact of precipitation events on safety-related submerged cables as this was previously reviewed and resolved in a prior 10 CFR 2.206 Director's Decision (ADAMS Accession No. ML13255A191), and the request for an updated site plan of Pilgrim, because this request is outside of the scope of the 10 CFR 2.206 process. The NRC staff will hold the petition until a resolution of ongoing reviews associated with the subject of the petitioners' concerns is achieved.

Dated at Rockville, Maryland, this 11th day of February 2016.
For the Nuclear Regulatory Commission.
William M. Dean,
Director, Office of Nuclear Reactor Regulation.

[FR Doc. 2016-03811 Filed 2-22-16; 8:45 am]

BILLING CODE 7590-01-P